DEPARTMENT OF TRANSPORTATION

Federal Aviation Administration

Public Notice For Waiver of Aeronautical Land-Use Assurance; Detroit Metropolitan Wayne County Airport; Detroit, MI

AGENCY: Federal Aviation Administration, DOT.

ACTION: Notice of intent of waiver with respect to land.

SUMMARY: The Federal Aviation Administration (FAA) is considering a proposal to change a portion of the Detroit Metropolitan Wayne County Airport (DTW) from aeronautical use to non-aeronautical use and to authorize the sale of the airport property. The proposal consists of the sale of vacant, unimproved land owned by the Wayne County Airport Authority (WCAA) and Wayne County (County).

The WCAA has requested from FAA a “Release from Federal agreement obligated land covenants” to sell one (1) parcel of property acquired by the County without Federal funding.

There are no impacts to the airport by allowing the WCAA to dispose of the vacant property. Approval does not constitute a commitment by the FAA to financially assist in the disposal of the airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before January 28, 2008.

ADDRESSES: Mr. David J. Welhouse, Program Manager, Detroit Airports District Office, 11677 South Wayne Road, Suite 107, Romulus, Michigan 48174.

FOR FURTHER INFORMATION CONTACT: Mr. David J. Welhouse, Program Manager, Detroit Airports District Office, 11677 South Wayne Road, Suite 107, Romulus, Michigan 48174. Telephone Number (734) 229-2952/Fax number (734) 229-2950. Documents reflecting this FAA action may be reviewed at this same location or at the Detroit Metropolitan Wayne County Airport, Detroit, Michigan.

SUPPLEMENTARY INFORMATION: Following is a legal description of the property located in Romulus, Wayne County, Michigan, and described as follows:

Description of Parcel Being Released (1.318 Acres)

Part of the southwest ¼ of section 24, T.3S., R.9E., City of Romulus, Wayne County, Michigan and being more particularly described as follows: Commencing at the south ¼ corner of section 24, T.3S., R.9E., City of Romulus, Wayne County, Michigan and running thence north 00 degrees 23 minutes 10 seconds west, along the north-south ¼ line of said section 24, said line being also the centerline of Harrison Road (86 feet wide), a distance of 460.00 feet to a point; thence north 89 degrees 14 minutes 52 seconds west a distance of 43.01 feet to a point the west line of said Harrison Road, said point being the Point of Beginning of the parcel of land herein being described; proceeding thence from said Point of Beginning, north 89 degrees 14 minutes 52 seconds west, along a line parallel with the south line of said Section 24, a measured distance of 211.21 feet (described 211.22 feet) to a point; thence north 00 degrees 23 minutes 10 seconds west, along a line parallel with the north-south ¼ line of said section 24, a distance of 280.90 feet to a point on the centerline of the Frank and Poet Drain; thence south 84 degrees 21 minutes 32 seconds east, along the centerline of said Frank and Poet Drain, a distance of 212.34 feet to a point on the west line of said Harrison Road; thence south 00 degrees 23 minutes 10 seconds east, along the west line of said Harrison Road, said line being 43.00 feet west of, as measured at right angles to and parallel with the north-south ¼ line of said section 24, a distance of 262.80 feet to the Point of Beginning, containing 57,406 square feet or 1.318 acres, more or less, of land in area.

Issued in Romulus, Michigan, on October 31, 2007.
Matthew J. Thys,
Manager, Detroit Airports District Office, FAA, Great Lakes Region.

[FR Doc. 07-6192 Filed 12-27-07; 8:45 am]

BILLING CODE 4910-13-M